Title 3—

The President

Proclamation 9056 of November 8, 2013

World Freedom Day, 2013

By the President of the United States of America

A Proclamation

On November 9, 1989, Germans from East and West united to bring down the Berlin Wall, marking the arrival of a new age. A symbol of oppression crumbled under the force of popular will. A people transitioned from the pain of division to the joy of reunification. And all over Europe, corrupt dictatorships gave way to new democracies. On World Freedom Day, we remember that for all the raw power of authoritarian regimes, it is ultimately citizens who decide whether to be defined by a wall or whether to tear it down.

Twenty-four years ago, the United States stood alongside people who demanded their basic liberties and nations that reclaimed the right to set their own course. The democracies that emerged are now some of America's strongest allies, united around the ideals of freedom and equality. These alliances are the foundation of our global security and the engine of our global economy.

As we commemorate the fall of the Berlin Wall, we recognize that the fight for human dignity goes on. Decades after the fall of the Iron Curtain, the United States continues to march with those who are reaching for freedom around the world. Today, let us remember that our fates and fortunes are linked as never before; when one nation takes a step toward liberty, all of us are a little more free. Let us offer our support to all those still struggling to throw off the weight of oppression and embrace a brighter day.

NOW, THEREFORE, I, BARACK OBAMA, President of the United States of America, by virtue of the authority vested in me by the Constitution and the laws of the United States, do hereby proclaim November 9, 2013, as World Freedom Day. I call upon the people of the United States to observe this day with appropriate ceremonies and activities, reaffirming our dedication to freedom and democracy.

IN WITNESS WHEREOF, I have hereunto set my hand this eighth day of November, in the year of our Lord two thousand thirteen, and of the Independence of the United States of America the two hundred and thirty-eighth.

[FR Doc. 2013-27377

Filed 11-13-13; 8:45 am]

Billing code 3295-F4